DEPARTMENT OF TRANSPORTATION

Federal Aviation Administration

14 CFR Part 71

[Docket No. FAA-2020-0606; Airspace Docket No. 19-ANM-100]

RIN 2120-AA66

Amendment of Class D and Class E Airspace; Yakima, WA; Correction

AGENCY: Federal Aviation Administration (FAA), DOT.

ACTION: Final rule; correction.

SUMMARY: The Federal Aviation Administration (FAA) is correcting a final rule that appeared in the Federal Register on October 5, 2020. The rule modified Class D and Class E airspace at Yakima Air Terminal/McAllister Field Airport, Yakima, WA. However, the subject heading incorrectly listed the location as “Yakima, OR.” This action corrects the Final Rule subject heading to list the location as “Yakima, WA.”

DATES: Effective 0901 UTC, February 25, 2021. The Director of the Federal Register approves this incorporation by reference action under Title 1 Code of Federal Regulations part 51, subject to the annual revision of FAA Order 7400.11 and publication of conforming amendments.

FOR FURTHER INFORMATION CONTACT: Matthew Van Der Wal, Federal Aviation Administration, Western Service Center, Operations Support Group, 2200 S 216th Street, Des Moines, WA 98198; telephone (206) 231-3695.

SUPPLEMENTARY INFORMATION: History

The FAA published a final rule in the Federal Register (85 FR 62573; October 5, 2020) for Docket FAA-2020-0606 modifying Class D and Class E airspace at Yakima, WA. Subsequent to publication, the FAA identified an error in the document's subject heading, which incorrectly listed the airport location as “Yakima, OR.” This action corrects that error.

Class D, E2, E4, and E5 airspace designations are published in paragraphs 5000, 6002, 6004, and 6005, respectively, of FAA Order 7400.11E, dated July 21, 2020, and effective September 15, 2020, which is incorporated by reference in 14 CFR 71.1. The Class D and Class E airspace designation listed in this document will be published subsequently in the Order.

Correction to Final Rule

Accordingly, pursuant to the authority delegated to me, Amendment of Class D and Class E Airspace; Yakima, WA, published in the Federal Register of October 5, 2020 (85 FR 62573), FR Doc. 2020-21905, is corrected as follows:

§ 71.1 [Corrected]

1. On page 62573, in the second column, the subject heading, is corrected to read as follows: Amendment of Class D and Class E Airspace; Yakima, WA

Issued in Seattle, Washington, on October 8, 2020.
B.G. Chew,
Acting Group Manager, Western Service Center, Operations Support Group.

[FR Doc. 2020-22743 Filed 10-14-20; 8:45 am]

BILLING CODE 4910-13-P